DEPARTMENT OF COMMERCE

National Oceanic and Atmospheric Administration

[I.D. 071106C]

Fisheries of the South Atlantic, Gulf of Mexico, and Caribbean; Southeastern Data, Assessment, and Review (SEDAR) Steering Committee Meeting

AGENCY: National Marine Fisheries Service (NMFS), National Oceanic and Atmospheric Administration (NOAA), Commerce.

ACTION: Notice of the SEDAR Steering Committee Meeting.

SUMMARY: The SEDAR Steering Committee will meet to discuss the SEDAR schedule; consider modifications to the SEDAR process; discuss the assessment update process; and establish the assessment schedule for 2006 and 2007. See SUPPLEMENTARY INFORMATION.

DATES: The SEDAR Steering Committee will meet on Tuesday, August 1, 2006, from 9 a.m. to 5 p.m.; and Wednesday, August 2, 2005, from 9 a.m. to 12 p.m.

ADDRESSES: The meeting will be held at the Marriott Frenchman's Reef, 5 Estate Bakkeroe, St. Thomas, USVI, 00802. Phone: (340) 776-8500 / Fax: (340) 715-6191.

FOR FURTHER INFORMATION CONTACT: John Carmichael, SEDAR Coordinator, SEDAR/SAFMC, One Southpark Circle, Suite 306, Charleston, S.C., 29407; phone (843) 571-4366 or toll free (866) SAFMC-10; FAX (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks. The SEDAR Steering Committee provides oversight of the SEDAR process, establishes assessment priorities, and provides coordination between assessment efforts and management activities. The SEDAR Steering Committee meets twice annually.

During this meeting the Steering Committee will consider benchmark assessments during 2007-2011 and update assessments in 2007 and 2008. The Committee will receive the report of the king mackerel mixing subcommittee and the evaluation of research and monitoring needs for scheduled assessments. The Committee will review the update process, consider the time allotted to complete benchmark assessments, evaluate options for securing review panel chairs, evaluate review panel products, and clarify assessment presentation procedures.

Special Accommodations

These meetings are physically accessible to people with disabilities. Requests for sign language interpretation or other auxiliary aids should be directed to the South Atlantic Fishery Management Council office at the address listed above at least 5 business days prior to the meeting.

Dated: July 11, 2006.
Tracey L. Thompson,
Acting Director, Office of Sustainable Fisheries, National Marine Fisheries Service.

[FR Doc. E6-11159 Filed 7-13-06; 8:45 am]

BILLING CODE 3510-22-S